DEPARTMENT OF ENERGY

Federal Energy Regulatory Commission

[Docket No. GT00-19-001]

Kinder Morgan Interstate Gas Transmission LLC; Notice of Proposed Changes in FERC Gas Tariff

April 20, 2000.

Take notice that on March 29, 2000, Kinder Morgan Interstate Gas Transmission LLC (KM Interstate) tendered for filing as part of its FERC Gas Tariff, the following tariff revised sheets, to be effective December 28, 1999:

Fourth Revised Volume No. 1-A

Substitute Original Sheet No. 3

Second Revised Volume No. 1-C

Substitute Original Sheet No. 3

KM Interstate states that the filing is being made in compliance with the Commission's Letter order dated March 16, 2000 in Docket No. GT00-19-000.

KM Interstate states that copies of the filing have been served upon all interested parties and affected state regulatory commissions.

Any person desiring to protest this filing should file a protest with the Federal Energy Regulatory Commission, 888 First Street, N.E., Washington, D.C. 20426, in accordance with Section 385.211 of the Commission's Rules and Regulations. All such protests must be filed as provided in Section 154.210 of the Commission's Regulations. Protests will be considered by the Commission in determining the appropriate action to be taken, but will not serve to make protestants parties to the proceedings. Copies of this filing are on file with the Commission and are available for public inspection in the Public Reference Room. This filing may be viewed on the web at http://www.ferc.fed.us/online/rims.htm (call 202-208-2222 for assistance).

David P. Boergers,
Secretary.

[FR Doc. 00-10334 Filed 4-25-00; 8:45 am]

BILLING CODE 6717-01-M